SECURITIES AND EXCHANGE COMMISSION

Sunshine Act Meeting

Federal Register CITATION OF PREVIOUS ANNOUNCEMENT: 79 FR 6243 (February 3, 2014).

STATUS: Closed Meeting.

PLACE: 100 F Street NE., Washington, DC.

DATE AND TIME OF PREVIOUSLY ANNOUNCED MEETING: Thursday, February 6, 2014.

CHANGE IN THE MEETING: Cancellation of Meeting.

The Closed Meeting scheduled for Thursday, February 6, 2014 at 2:00 p.m. has been cancelled.

For further information please contact the Office of the Secretary at (202) 551-5400.

Dated: January 31, 2014.
Elizabeth M. Murphy,
Secretary.

[FR Doc. 2014-02508 Filed 2-3-14; 4:15 pm]

BILLING CODE 8011-01-P